NUCLEAR REGULATORY COMMISSION

[NRC-2011-0237]

Event Reporting Guidelines

AGENCY: Nuclear Regulatory Commission.

ACTION: Draft NUREG; request for comment.

SUMMARY: The U.S. Nuclear Regulatory Commission (NRC) is issuing for public comment a draft NUREG-1022, Revision 3, Supplement 1, “Event Reporting Guidelines: 10 CFR 50.72(b)(3)(xiii).” In draft NUREG-1022, Revision 3, Supplement 1, the NRC proposes to endorse Nuclear Energy Institute (NEI) 13-01, “Reportable Action Levels for Loss of Emergency Preparedness Capabilities,” dated October 2013. NEI 13-01 provides specific guidance for reporting to the NRC any event that results in a major loss of emergency assessment capability, offsite response capability, or offsite communications capability.

DATES: Submit comments by June 2, 2014. Comments received after this date will be considered if it is practical to do so, but the Commission is able to ensure consideration only for comments received on or before this date.

ADDRESSES: You may submit comment by any of the following methods (unless this document describes a different method for submitting comments on a specific subject):

• Federal Rulemaking Web site: Go to http://www.regulations.gov and search for Docket ID NRC-2011-0237. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN, 06-44M, U.S. Nuclear Regulatory Commission, Washington, DC 20555-0001.

For additional direction on accessing information and submitting comments, see “Accessing Information and Submitting Comments” in the SUPPLEMENTARY INFORMATION section of this document.

FOR FURTHER INFORMATION CONTACT: Christopher Regan, Office of Nuclear Reactor Regulation, U.S. Nuclear Regulatory Commission, Washington, DC 20555-0001; telephone: 301-415-2768, email: Christopher.Regan@nrc.gov.

SUPPLEMENTARY INFORMATION:

I. Accessing Information and Submitting Comments

A. Accessing Information

Please refer to Docket ID NRC-2011-0237 when contacting the NRC about the availability of information regarding this document. You may access publicly-available information related to this action by the following methods:

• Federal Rulemaking Web site: Go to http://www.regulations.gov and search for Docket ID NRC-2011-0237.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG-1022, Revision 3, Supplement 1 is available in ADAMS under Accession No. ML14114A384. NEI 13-01, dated October 2013, is also available in ADAMS under Accession No. ML13281A794.

• NRC's PDR: You may examine and purchase copies of public documents at the NRC's PDR, Room O1-F21, One White Flint North, 11555 Rockville Pike, Rockville, Maryland 20852.

II. Background

NUREG-1022, Revision 3, “Event Reporting Guidelines: 10 CFR 50.72 and 50.73,” (ADAMS Accession No. ML13032A220) contains guidelines that the NRC considers acceptable for use in meeting the requirements of §§ 50.72 and 50.73 of Title 10 of the Code of Federal Regulations (10 CFR). The NRC uses the information reported under 10 CFR 50.72 and 10 CFR 50.73 in responding to emergencies, monitoring ongoing events, confirming licensing bases, studying potentially generic safety problems, assessing trends and patterns of operational experience, monitoring performance, identifying precursors of more significant events, and providing operational experience to the industry. Sections 1 and 2 of NUREG-1022, Revision 3 contain general guidance applicable to all event reports. Section 3 of NUREG-1022, Revision 3 contains guidance for each of the specific reporting criterion found within the rule. Section 4 of NUREG-1022 Revision 3 contains additional general guidance applicable to reports submitted under 10 CFR 50.72. Section 5 of NUREG-1022, Revision 3 contains additional general guidance applicable to reports submitted under 10 CFR 50.73.

Section 3.2.13 of NUREG-1022, Revision 3 provides guidance for reporting to the NRC the events listed under 10 CFR 50.72(b)(3)(xiii): any event that results in a major loss of emergency assessment capability, offsite response capability, or offsite communications capability. Although some of the guidance is specific, much of the guidance is general in nature. In many areas, the decision to report under 10 CFR 50.72(b)(3)(xiii) involves a licensee's use of engineering judgment. A licensee's use of engineering judgment can result in inconsistent application. During public meetings conducted on April 3, 2013 (ADAMS Accession No. ML13100A390), and on May 7, 2013 (ADAMS Accession No. ML13109A228), the NRC discussed with external stakeholders, including the NEI, what specific considerations might be evaluated against when the NRC determines if acceptable engineering judgment was applied by a licensee. NEI 13-01, “Reportable Action Levels for Loss of Emergency Preparedness Capabilities,” (ADAMS Accession No. ML13281A794) was then drafted with the purpose of providing a detailed uniform approach to reporting under 10 CFR 50.72(b)(3)(xiii). NEI 13-01 provides specific guidance for reporting under 10 CFR 50.72(b)(3)(xiii). By letter dated October 8, 2013 (ADAMS Accession No. ML13281A780), NEI requested NRC endorsement of NEI 13-01. It should also be noted that some of the specific guidance found in NEI 13-01, differs from certain specific positions found in Section 3.2.13 of NUREG-1022, Revision 3.

In draft NUREG-1022, Revision 3, Supplement 1, “Event Reporting Guidelines: 10 CFR 50.72(b)(3)(xiii)” (ADAMS Accession No. ML14114A384), the NRC proposes to endorse NEI 13-01, “Reportable Action Levels for Loss of Emergency Preparedness Capabilities,” dated October 2013, as an acceptable alternative to guidance found in Section 3.2.13 of NUREG-1022, Revision 3, for reporting considerations associated with 10 CFR 50.72(b)(3)(xiii).

Since Sections 1, 2, and 4 of NUREG-1022, Revision 3 contain general guidance for event reporting that would still be applicable to reports submitted under 10 CFR 50.72(b)(3)(xiii), these sections are not considered superseded by licensee adoption of NEI 13-01.

III. Backfitting and Issue Finality

Draft NUREG-1022, Revision 3, Supplement 1, if finalized, would provide guidance on the method that the NRC staff finds acceptable for a licensee to meet the information and collection requirements of 10 CFR 50.72(b)(3)(xiii). The issuance of this guidance would not be backfitting, as the term is defined in 10 CFR 50.109, or inconsistent with the issue finality provisions on 10 CFR part 52, because information collection and reporting requirements are not included within the scope of the NRC's backfitting protections or part 52 finality provisions.

Dated at Rockville, Maryland, this 25th day of April 2014.
For the Nuclear Regulatory Commission.
Christopher Regan,
Branch Chief, Reactor Inspection Branch, Division of Inspections and Regional Support, Office of Nuclear Reactor Regulation.

[FR Doc. 2014-10141 Filed 5-1-14; 8:45 am]

BILLING CODE 7590-01-P